DEPARTMENT OF THE INTERIOR

Bureau of Ocean Energy Management

[Docket No. BOEM-2021-0040]

Notice of Intent To Prepare an Environmental Impact Statement for Proposed Wind Energy Facility Offshore Virginia

AGENCY: Bureau of Ocean Energy Management, Interior.

ACTION: Notice of intent to prepare an environmental impact statement; request for comments.

SUMMARY: Consistent with the regulations implementing the National Environmental Policy Act (NEPA), the Bureau of Ocean Energy Management (BOEM) announces its intent to prepare an environmental impact statement (EIS) for the review of a construction and operations plan (COP) submitted by Dominion Energy, Inc. (Dominion or applicant). The COP proposes the construction and operation of a wind energy facility offshore Virginia, called the Coastal Virginia Offshore Wind Commercial Project (CVOW-C or Project), with export cables and the cable landing locations in the area of Hampton Roads, Virginia. The onshore electrical portion will connect to the Pennsylvania-New Jersey-Maryland (PJM) regional transmission grid. This notice of intent (NOI) announces the EIS scoping process for the Dominion COP. Additionally, this NOI seeks public comment and input under section 106 of the National Historic Preservation Act (NHPA) and its implementing regulations. Detailed information about the proposed wind energy facility, including the COP, can be found on BOEM's website at: https://www.boem.gov/CVOW-C.

DATES: Comments are due to BOEM by August 2, 2021.

BOEM will hold virtual public scoping meetings for the CVOW-C EIS at the following dates and times (eastern):

Monday, July 12, 2021, 5:00 p.m.

Wednesday, July 14, 2021, 1:00 p.m.

Tuesday, July 20, 2021, 5:00 p.m.

ADDRESSES: Comments can be submitted in any of the following ways:

• Delivered by U.S. mail or any other delivery service, enclosed in an envelope labeled, “CVOW-C COP EIS” and addressed to Program Manager, Office of Renewable Energy, Bureau of Ocean Energy Management, 45600 Woodland Road, Sterling, Virginia 20166, or

• Through the regulations.gov web portal: Navigate to http://www.regulations.gov and search for Docket No. BOEM-2021-0040. Click on the “Comment” button to the right of the document link. Enter your information and comment, then click “Submit.”

FOR FURTHER INFORMATION CONTACT: Michelle Morin, BOEM Office of Renewable Energy Programs, 45600 Woodland Road, Sterling, Virginia 20166, (703) 787-1340 or michelle.morin@boem.gov.

SUPPLEMENTARY INFORMATION:

Purpose and Need for the Proposed Action

In Executive Order 14008, President Biden stated that it is the policy of the United States “to organize and deploy the full capacity of its agencies to combat the climate crisis to implement a Government-wide approach that reduces climate pollution in every sector of the economy; increases resilience to the impacts of climate change; protects public health; conserves our lands, waters, and biodiversity; delivers environmental justice; and spurs well-paying union jobs and economic growth, especially through innovation, commercialization, and deployment of clean energy technologies and infrastructure.”

Through a competitive leasing process under 30 CFR 585.211, Dominion was awarded Commercial Lease OCS-A 0483 covering an area offshore Virginia (the Lease Area). Dominion has the exclusive right to submit a COP for activities within the Lease Area, and it has submitted a COP to BOEM proposing the construction and installation, operations and maintenance, and conceptual decommissioning of an offshore wind energy facility in the Lease Area.

The goal of CVOW-C is to develop a commercial-scale, offshore wind energy facility in the Lease Area with up to 205 wind turbine generators, inter-array cables, up to three offshore substations, and two cable landing locations located within existing parking lots in the State Military Reservation, the Croatan Beach Parking Lot in Virginia Beach, or both. The onshore electrical portion of the Project will connect to the PJM regional transmission grid. The Project will contribute to the goals of the 2020 law passed by the Virginia General Assembly, the Virginia Clean Economy Act (VCEA), which supports development of 2,500 to 3,000 megawatts (MW) of clean, reliable offshore wind energy by 2028. Furthermore, Dominion's stated purpose and need to construct and operate a commercial-scale, offshore wind energy facility in the Lease Area is to help fulfill the Commonwealth of Virginia's renewable energy goals.

Based on Dominion's goals and BOEM's authority, the purpose of BOEM's action is to respond to Dominion's COP proposal and determine whether to approve, approve with modifications, or disapprove Dominion's COP to construct and install, operate and maintain, and decommission a commercial-scale, offshore wind energy facility within the Lease Area (the Proposed Action). BOEM's action is needed to further the United States policy to make Outer Continental Shelf (OCS) energy resources available for expeditious and orderly development, subject to environmental safeguards (43 U.S.C. 1332(3)), including consideration of natural resources, safety of navigation, and existing ocean uses.

In addition, the National Oceanic and Atmospheric Administration's (NOAA) National Marine Fisheries Service (NMFS) anticipates receipt of one or more requests for authorization to take marine mammals incidental to activities related to the Project pursuant to the Marine Mammal Protection Act (MMPA). NMFS's issuance of an MMPA incidental take authorization is a major Federal action and, in relation to BOEM's action, is considered a connected action (40 CFR 1501.9(e)(1)). The purpose of the NMFS action—which is a direct outcome of Dominion's request for authorization to take marine mammals incidental to the Project (specifically pile driving)—is to evaluate the information in Dominion's application pursuant to the MMPA and 50 CFR part 216 and to issue the requested incidental take authorizations, if appropriate. The need for the NMFS action is to consider the impacts of authorizing the requested take on marine mammals and their habitat. NMFS's responsibilities under the MMPA (16 U.S.C. 1371(a)(5)(D)) and its implementing regulations establish and frame the need for NMFS's action. NMFS will be a consulting agency during BOEM's environmental review of Dominion's COP and intends to adopt BOEM's EIS to support any requested MMPA incidental take authorizations.

The U.S. Army Corps of Engineers Norfolk District (USACE) anticipates a permit action to be undertaken through authority delegated to the District Engineer by 33 CFR 325.8, pursuant to section 10 of the Rivers and Harbors Act of 1899 (RHA) (33 U.S.C. 403) and section 404 of the Clean Water Act (CWA) (33 U.S.C. 1344). The USACE considers issuance of a permit under these two delegated authorities a major Federal action connected to BOEM's proposed action (40 CFR 1501.9(e)(1)). The applicant's stated purpose and need for the Project, as indicated in paragraph 3 of this section, is to provide a commercially viable, offshore wind energy project within the Lease Area to meet Virginia's need for clean energy. The basic Project purpose, as determined by USACE, is the construction and operation of a commercial-scale, offshore wind energy project, including associated transmission lines, for renewable energy generation and distribution to the PJM energy grid. The USACE will be a consulting agency during BOEM's environmental review of Dominion's COP and intends to adopt BOEM's EIS to support its decision on any permits required under section 10 of the RHA or section 404 of the CWA.

Preliminary Proposed Action and Alternatives

The Proposed Action is the construction and operation of a wind energy facility, as described in the COP submitted by Dominion on the area covered by Lease OCS-A 0483. In its COP, Dominion is proposing to develop the Project to provide between 2,500 and 3,000 MW of clean, reliable offshore wind energy to Virginia consumers.

The Project will involve the construction and operation of up to 205 wind turbine generators (WTG) and associated WTG foundations, up to three offshore substations, up to approximately 301 miles of inter-array cables, and up to two cable onshore landing locations. The onshore electrical portion will connect to the PJM regional transmission grid. The WTG foundations will be monopiles with associated support and access structures. The WTGs, offshore substations, and inter-array cables will be located within the Lease Area on the OCS approximately 27 statute miles offshore Virginia Beach. The offshore export cables will be buried below the seabed in the OCS and Virginia submerged lands. Export cables and two onshore cable landing locations will be located within existing parking lots at the State Military Reservation ( ), Croatan Beach in Virginia Beach, or both.

In addition to the Proposed Action and the no action alternative, potential alternatives that the draft EIS could analyze include no-surface occupancy areas within the Lease Area, navigation corridors within the Lease Area, and time of year restrictions during construction. Reasonable alternatives that are identified during the scoping period will be evaluated in the draft EIS. Under the no action alternative, BOEM would disapprove the COP, and Dominion's wind energy facility described in the COP would not be built in the Lease Area.

Once BOEM completes the EIS and associated consultations, BOEM will decide whether to approve, approve with modification, or disapprove Dominion's COP. If BOEM approves the COP and the Project is constructed, the lessee must submit a plan, before the end of the lease term, to decommission the facilities.

Summary of Expected Impacts

The draft EIS will identify and describe the potential effects of the Proposed Action on the human environment that are reasonably foreseeable and have a reasonably close causal relationship to the Proposed Action. This includes such effects that occur at the same time and place as the Proposed Action or alternatives and such effects that are later in time or occur in a different place. Expected potential impacts may include, but are not limited to, impacts (both beneficial and adverse) to air quality, water quality, bats, benthic habitat, essential fish habitat, invertebrates, finfish, birds, marine mammals, terrestrial and coastal habitats and fauna, sea turtles, wetlands and other waters of the United States, commercial fisheries and for-hire recreational fishing, cultural resources, demographics, employment, economics, environmental justice, land use and coastal infrastructure, navigation and vessel traffic, other marine uses, recreation and tourism, and visual resources. These expected potential impacts will be analyzed in the draft and final EIS.

Based on a preliminary evaluation of the resources listed above, BOEM expects potential impacts to sea turtles and marine mammals from underwater noise caused by construction and from collisions with Project-related vessel traffic. Structures installed by the Project could permanently change benthic habitat and other fish habitat. Commercial fisheries and for-hire recreational fishing may be impacted. Project structures above the water may affect the visual character that defines historic properties and recreation and tourism areas. Project structures could pose an allision and height hazard to vessels passing close by, and vessels could in turn pose a hazard to the structures. Additionally, the Project may adversely impact military use, air traffic, land-based radar services, cables and pipelines, scientific surveys, and any future mineral extraction. Beneficial impacts are also expected by facilitating achievement of State renewable energy goals, increasing job opportunities, improving air quality, and reducing carbon emissions. The EIS will analyze measures that would avoid, minimize, or mitigate potential environmental effects.

Anticipated Permits and Authorizations

In addition to the requested COP approval, various other Federal, State, and local authorizations will be required for the Project. In addition to those previously discussed (i.e., NHPA, MMPA, RHA, and CWA), these include authorizations under the Endangered Species Act, Magnuson‐Stevens Fishery Conservation and Management Act, Coastal Zone Management Act, and other laws and regulations determined to be applicable to the Project. BOEM will also conduct government-to-government consultations with federally recognized tribes. For a full listing of regulatory requirements applicable to the CVOW-C Project, please see the COP, volume I available at https://www.boem.gov/CVOW-C.

BOEM has chosen to use the NEPA substitution process to fulfill its obligations under NHPA. While BOEM's obligations under NHPA and NEPA are independent, the regulations implementing NHPA allow for the use of NEPA review to substitute for various aspects of NHPA's section 106 (54 U.S.C. 306108) review to improve efficiency, promote transparency and accountability, and support a broadened discussion of potential effects that a project may have on the human environment. As provided in 36 CFR 800.8(c), the NEPA process and documentation required for the preparation of an EIS and record of decision (ROD) can be used to fulfill a lead Federal agency's NHPA section 106 review obligations in lieu of the procedures set forth in 36 CFR 800.3 through 800.6. During preparation of the EIS, BOEM will ensure that the NEPA substitution process will meet its NHPA obligations in a manner that successfully utilizes this alternative process.

Schedule for the Decision-Making Process

After the draft EIS is completed, BOEM will publish a notice of availability (NOA) and request public comments on the draft EIS. BOEM expects to issue the NOA in August 2022. After the public comment period ends, BOEM will review and respond to comments received and will develop the final EIS. BOEM expects to make the final EIS available to the public in May 2023. A ROD will be completed no sooner than 30 days after the final EIS is released, in accordance with 40 CFR 1506.11.

Scoping Process: This NOI commences the public scoping process for identifying issues and potential alternatives for consideration in the CVOW-C EIS. Throughout the scoping process, Federal agencies; State, tribal, and local governments; and the general public have the opportunity to help BOEM determine significant resources and issues, impact-producing factors, reasonable alternatives (e.g., size, geographic, seasonal, or other restrictions on construction and siting of facilities and activities), and potential mitigation measures to be analyzed in the EIS as well as to provide additional information.

In the interests of efficiency, completeness, and facilitating public involvement, BOEM will use the NEPA process to fulfill NHPA's public involvement requirements under 36 CFR 800.2(d). BOEM will involve the public, State and local governments, Indian tribes, and Dominion as consulting parties under NHPA. Also, BOEM will identify potential consulting parties by considering all written requests from individuals and organizations to participate as consulting parties.

BOEM will hold virtual public scoping meetings for the CVOW-C EIS at the following dates and times (eastern):

• Monday, July 12, 2021, 5:00 p.m.;

• Wednesday, July 14, 2021, 1:00 p.m.; and

• Tuesday, July 20, 2021, 5:00 p.m.

Registration for the virtual public meetings may be completed here: https://www.boem.gov/CVOW-C-Scoping-Virtual-Meetings.

NEPA Cooperating Agencies: BOEM invites other Federal agencies and State, tribal, and local governments to consider becoming cooperating agencies in the preparation of this EIS. The Council on Environmental Quality's (CEQ) NEPA-implementing regulations specify that qualified agencies and governments are those with “jurisdiction by law or special expertise.” Potential cooperating agencies should consider their authority and capacity to assume the responsibilities of a cooperating agency and should be aware that an agency's role in the environmental analysis neither enlarges nor diminishes the final decision-making authority of any other agency involved in the NEPA process.

Upon request, BOEM will provide potential cooperating agencies with a written summary of expectations for cooperating agencies, including time schedules, milestones, responsibilities, scope and detail of cooperating agencies' contributions, and availability of pre-decisional information. BOEM anticipates this summary will form the basis for a memorandum of agreement between BOEM and any non-Department of the Interior cooperating agency. Agencies also should consider the factors for determining cooperating agency status in CEQ's January 30, 2002, memorandum entitled “Cooperating Agencies in Implementing the Procedural Requirements of the National Environmental Policy Act.” This document is available at: http://energy.gov/sites/prod/files/nepapub/nepa_documents/RedDont/G-CEQ-CoopAgenciesImplem.pdf.

BOEM, as the lead agency, will not provide financial assistance to cooperating agencies. Even if a governmental entity is not a cooperating agency, it will have opportunities to provide information and comments to BOEM during the public input stages of the NEPA process.

NHPA Consulting Parties: Certain individuals and organizations with a demonstrated interest in the Project may request to participate as NHPA consulting parties under 36 CFR 800.2(c)(5) based on their legal or economic stake in historic properties affected by the Project. Additionally, the same provision allows those with concerns about the Project's effect on historic properties to request to be consulting parties.

Before issuing this NOI, BOEM compiled a list of potential consulting parties and invited them in writing to become consulting parties. To become a consulting party, those invited must respond in writing, preferably by the requested response date.

Interested individuals or organizations that did not receive an invitation may request to be consulting parties by writing to the appropriate staff at ICF Consulting (ICF), which is supporting BOEM in its administration of this review. ICF's contact for this Project is Susan Lassell at Susan.Lassell@icf.com or 916-231-7612. BOEM will determine which interested parties should be NHPA consulting parties.

Comments: Federal agencies, tribal, State, and local governments, and other interested parties are requested to comment on the scope of this EIS, significant issues that should be addressed, potential mitigation measures that should be included, and alternatives that should be considered. For information on how to submit comments, see the Addresses section above.

BOEM does not consider anonymous comments. Please include your name and address as part of your comment. BOEM makes all comments, including the names, addresses, and other personally identifiable information included in the comment, available for public review online. Individuals may request that BOEM withhold their names, addresses, and other personally identifiable information from the public record; however, BOEM cannot guarantee that it will be able to do so. For BOEM to withhold from disclosure your personally identifiable information, you must identify any information contained in your comment that, if released, would constitute a clearly unwarranted invasion of your privacy. You also must briefly describe any possible harmful consequences of the disclosure of information, such as embarrassment, injury, or other harm. All submissions from organizations or businesses and from individuals identifying themselves as representatives or officials of organizations or businesses will be made available for public inspection in their entirety.

Request for Identification of Potential Alternatives, Information, and Analyses Relevant to the Proposed Action

BOEM requests data, comments, views, information, analysis, alternatives, or suggestions on the Proposed Action from the public; affected Federal, State, tribal, and local governments, agencies, and offices; the scientific community; industry; or any other interested party. Specifically:

1. Potential effects that the Proposed Action could have on biological resources, including bats, birds, coastal fauna, finfish, invertebrates, essential fish habitat, marine mammals, and sea turtles.

2. Potential effects that the Proposed Action could have on physical resources, including air quality, water quality, and wetlands and other waters of the United States.

3. Potential effects that the Proposed Action could have on socioeconomic and cultural resources, including commercial fisheries and for-hire recreational fishing, demographics, employment, economics, environmental justice, land use and coastal infrastructure, navigation and vessel traffic, other uses (marine minerals, military use, aviation), recreation and tourism, and scenic and visual resources.

4. Other possible reasonable alternatives to the Proposed Action that BOEM should consider, including additional or alternative avoidance, minimization, and mitigation measures.

5. As part of its compliance with NHPA section 106 and its implementing regulations (36 CFR part 800), BOEM seeks public comment and consulting parties input regarding the identification of historic properties within the Proposed Action's area of potential effects and the potential effects to those historic properties from the activities proposed under the COP. BOEM also solicits proposed measures to avoid, minimize, or mitigate any adverse effects on historic properties. Consistent with confidentiality requirements, BOEM will present available information regarding known historic properties during the public scoping period. BOEM's effects analysis for historic properties will be available for public and consulting party comment in the draft EIS.

6. Information on other current or planned activities in, or in the vicinity of, the Proposed Action and possible impacts on the Project or the Project's impacts on those activities.

7. Other information relevant to the Proposed Action and its impacts on the human environment.

To promote informed decision-making, comments should be as specific as possible and should provide as much detail as necessary to allow a commenter's meaningful participation and fully inform BOEM of the commenter's position. Comments should explain why the issues raised are important to the consideration of potential environmental impacts and alternatives to the Proposed Action, as well as economic, employment, and other impacts affecting the quality of the human environment.

The draft EIS will include a summary of all alternatives, information, and analyses submitted for consideration by BOEM during the scoping process.

Authority: This NOI is published pursuant to NEPA, 42 U.S.C. 4321 et seq., and 40 CFR 1501.9.

William Yancey Brown,
Chief Environmental Officer, Bureau of Ocean Energy Management.

[FR Doc. 2021-14220 Filed 7-1-21; 8:45 am]

BILLING CODE 4310-MR-P